DEPARTMENT OF HEALTH AND HUMAN SERVICES

Centers for Disease Control and Prevention

[60-Day-14-14BAA]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

A Comprehensive Assessment of the National Program to Eliminate Diabetes Related Health Disparities in Vulnerable Populations—New—National Center for Chronic Disease Prevention and Health Promotion (NCCDPHP), Centers for Disease Control and Prevention (CDC).

Background and Brief Description

Diabetes affects over 29 million people in the United States, is the sixth leading cause of death in the country, and can cause serious health complications including heart disease, blindness, kidney failure, and lower-extremity amputations. The overall prevalence of diabetes in the U.S. is > 9%, however, higher rates of type 2 diabetes and its complications exist in particular subgroups of the population. These subgroups include adults ages 60 years and older, racial and ethnic minority groups (e.g., African Americans, Hispanic/Latino Americans, American Indians, Native Hawaiians and other Pacific Islanders, and some Asian Americans), people with low socioeconomic status (SES), and rural populations. Population subgroups that are not well integrated into the health care system because of ethnic, cultural, economic, or geographic characteristics, and that may not receive adequate health care, are considered vulnerable populations.

In an effort to reduce diabetes-related disparities, CDC's Division of Diabetes Translation (DDT) aims to concentrate efforts where the greatest impact can be achieved for populations with the greatest burden or risk of diabetes. DDT established the National Program to Eliminate Diabetes Related Health Disparities in Vulnerable Populations (the “VP Program”) to coordinate and integrate efforts in high-risk communities involving CDC, national organizations, and community partners. Through the VP Program, six national organizations received cooperative agreements to assist a total of 18 communities with planning, implementing, and evaluating community-based diabetes control programs. Each VP awardee is required to use the community change framework to guide their work with three communities.

CDC proposes to collect information to learn more about how the community change approach is working in communities that are significantly impacted by factors that influence the disproportionate burden of diabetes in vulnerable populations, such as low income, limited education, limited access to health care, and a physical environment that does not promote health.

Semi-structured telephone interviews will be conducted with key personnel associated with each national organization (awardee) and each community site. One project coordinator and one consultant at each of the six VP grantee organizations (n=12) will be asked to participate in an interview of 1.5 hours in length. In addition, an interview of approximately 1.5 hours will be conducted with one community partner or one coalition member at each community site (n=18) and one site coordinator at each community site (n=18) over a two-month period. The interviews will allow CDC to explore capacity building and support strategies used by the awardees to facilitate community change, and provide insight into the facilitators and barriers experienced by the program stakeholders in addressing diabetes in their communities.

OMB approval is requested for one year. Data collection, management, and analysis will be conducted by a contractor working on behalf of CDC. Participation in the interviews is voluntary and there are no costs to respondents other than their time.

Estimated Annualized Burden Hours
Type of respondent | Form name | Number of respondents | Number of responses per respondent | Average burden per response (in hours) | Total burden hours
Grantee (Staff Designee and Consultant) | Grantee Interview Guide | 12 | 1 | 1.5 | 18
Community Partner/Coalition Member | Community Partner/Coalition Member Interview Guide | 18 | 1 | 1.5 | 27
Site Coordinator | Site Coordinator Interview Guide | 18 | 1 | 1.5 | 27
Total |  |  |  |  | 72

Leroy A. Richardson,
Chief, Information Collection Review Office, Office of Scientific Integrity, Office of the Associate Director for Science, Office of the Director, Centers for Disease Control and Prevention.

[FR Doc. 2014-23865 Filed 10-6-14; 8:45 am]

BILLING CODE 4163-18-P